FEDERAL COMMUNICATIONS COMMISSION

47 CFR Part 73

[DA No. 00-373, MM Docket No. 99-36; RM-9372]

Radio Broadcasting Services; Kaukauna and Denmark, WI

AGENCY: Federal Communications Commission.

ACTION: Final rule.

SUMMARY: This document substitutes Channel 285C3 for Channel 285A at Kaukauna, Wisconsin, reallots Channel 285C3 to Denmark, Wisconsin, and modifies the license for Station WPCK to specify operation on Channel 285C3 at Denmark in response to a petition filed by Midwest Dimensions, Inc. See 64 FR 7843. February 17, 1999. The coordinates for Channel 285C3 at Denmark are 44-24-38 and 87-34-20. With this action, this proceeding is terminated.

EFFECTIVE DATE: April 14, 2000.

FOR FURTHER INFORMATION CONTACT: Kathleen Scheuerle, Mass Media Bureau, (202) 418-2180

SUPPLEMENTARY INFORMATION: This is a summary of the Commission's Report and Order, MM Docket No. 99-36, adopted February 16, 2000, and released February 29, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Wisconsin, is amended by removing Channel 285A at Kaukauna and adding Denmark, Channel 285C3.

Federal Communications Commission.
John A. Karousos,
Chief, Allocations Branch, Policy and Rules Division, Mass Media Bureau.

[FR Doc. 00-5144 Filed 3-3-00; 8:45 am]

BILLING CODE 6712-01-P